DEPARTMENT OF AGRICULTURE

Animal and Plant Health Inspection Service

[Docket No. APHIS-2018-0011]

Notice of Availability of Proposed Changes to the Chronic Wasting Disease Herd Certification Program Standards

AGENCY: Animal and Plant Health Inspection Service, USDA.

ACTION: Notice; extension of comment period.

SUMMARY: We are extending the comment period for our notice of availability of a revised version of the Chronic Wasting Disease Herd Certification Program Standards. This action will allow interested persons additional time to prepare and submit comments.

DATES: We will consider all comments that we receive on or before May 30, 2018.

ADDRESSES: You may submit comments by either of the following methods:

• Federal eRulemaking Portal: Go to http://www.regulations.gov/#!docketDetail;D=APHIS-2018-0011.

• Postal Mail/Commercial Delivery: Send your comment to Docket No. APHIS-2018-0011, Regulatory Analysis and Development, PPD, APHIS, Station 3A-03.8, 4700 River Road Unit 118, Riverdale, MD 20737-1238.

Supporting documents and any comments we receive on this docket may be viewed at http://www.regulations.gov/#!docketDetail;D=APHIS-2018-0011 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Tracy Nichols, Staff Officer, Cervid Health Team, Surveillance, Preparedness, and Response Services, VS, APHIS, USDA, 2150 Centre Avenue, Bldg. B, Fort Collins, CO 80526; (970) 494-7380.

SUPPLEMENTARY INFORMATION:

On March 29, 2018, we published in the Federal Register (83 FR 13469-13470, Docket No. APHIS-2018-0011) a notice of availability of a revised version of the Chronic Wasting Disease Herd Certification Program Standards. These standards provide guidance on how to meet program and interstate movement requirements. The proposed revisions addressed concerns of State and industry participants about the existing standards.

Comments were required to be received on or before April 30, 2018. We are extending the comment period on Docket No. APHIS-2018-0011 for an additional 30 days. This action will allow interested persons additional time to prepare and submit comments.

Authority: 7 U.S.C. 8301-8317; 7 CFR 2.22, 2.80, and 371.4.

Done in Washington, DC, this 20th day of April 2018.
Michael C. Gregoire,
Acting Administrator, Animal and Plant Health Inspection Service.

[FR Doc. 2018-08787 Filed 4-25-18; 8:45 am]

BILLING CODE 3410-34-P